ENVIRONMENTAL PROTECTION AGENCY

[FRL OP-OFA-197]

Environmental Impact Statements; Notice of Availability

Responsible Agency: Office of Federal Activities, General Information 202-993-3272 or https://www.epa.gov/nepa.

Receipt of Environmental Impact Statements (EIS)

For Emergency Publication.

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250152, Draft Supplement, USACE, TX, Matagorda Ship Channel Improvement Project, Port Lavaca, Texas, Comment Period Ends: 12/29/2025, Contact: Heather Briscoe 409-766-3139.

Dated: November 12, 2025.
Nancy Abrams,
Associate Director, Office of Federal Activities.

[FR Doc. 2025-19890 Filed 11-13-25; 8:45 am]

BILLING CODE 6560-50-P